DEPARTMENT OF DEFENSE

Office of the Secretary

Department of Defense Task Force on Mental Health, Sunshine Act Meeting

AGENCY: DoD, Office of the Assistant Secretary of Defense (Health Affairs).

ACTION: Notice of Meeting.

SUMMARY: Pursuant to the Federal Advisory Committee Act of 1972 (5 U.S.C., Appendix, as amended), the Sunshine in the Government Act of 1976 (5 U.S.C. 552b, as amended), and 41 CFR 102-3.150, the following meeting is announced:

Name of Committee: Department of Defense Task Force on Mental Health, a duly established subcommittee of the Defense Health Board.

Dates: April 16, 2007 (Morning and Afternoon—Open Session).

Times: 9 a.m.-11:30 a.m. (Morning).

1 p.m.-3 p.m. (Afternoon).

3 p.m.-4 p.m. (Public Testimony).

Location: Marriott Plaza, 555 South Alamo, San Antonio, Texas 78205.

Agenda: Pursuant to 5 U.S.C. 552b, as amended, and 42 CFR 102-3.140 through 102-3.165, and the availability of space this meeting is open to the public. The purpose of the meeting is to obtain, review, and evaluate information related to the Mental Health Task Force's congressionally-mandated task of assessing the efficacy of mental health services provided to members of the Armed Forces by the Department of Defense. The Task Force members will publicly deliberate on the Elements of the Report outlined by Congress in regards to mental health care delivery to military service members, their families, and veterans. In addition to public deliberations, the Task Force will also conduct administrative sessions.

SUPPLEMENTARY INFORMATION: Following the public meeting of the Department of Defense Task Force on Mental Health will conduct an Administrative Working Meeting from 8 a.m.-12 p.m. on 17 April to discuss administrative matters of the Department of Defense Task Force on Mental Health. In addition, the Task Force, following its public and administrative meetings, will conduct a Preparatory Work Meeting from 1 p.m.-5:30 p.m. on 17 April, and 8 a.m.-5:30 p.m. on 18 April to work on revisions to their draft report in preparation for deliberation by the Defense Health Board in open session on May 4, 2007. Both the Administrative and Preparatory Work Meetings will be held at the Marriott Plaza, 555 South Alamo, San Antonio, Texas 78205. Pursuant to 41 CFR 102-3.160, both the Administrative and Preparation Work Meetings will be closed to the public.

Any member of the public wishing to provide input to the Task Force should submit a written statement in accordance with 41 CFR 102-3.140(c), section 10(a)(3) of the Federal Advisory Committee Act, and the procedures described in this notice. Written statements should be no longer than two type-written pages and must address the following details: The issue, discussion, and a recommended course of action. Supporting documentation may also be included as needed to establish the appropriate historical context and to provide any necessary background information. Written statements may be submitted to the address listed below or by FAX to 703-681-3321. Statements may also be sent by e-mail to dhb@ha.osd.mil.

Individuals submitting a written statement may submit their statement to the Designated Federal Officer at any point, however, if a written statement is not received at lease 10 calendar days prior to the meeting, which is the subject of this notice, then it may not be provided to or considered by the Task Force.

The Designated Federal Officer will review all timely submissions with the Task Force Co-chairs, and ensure they are provided to members of the Task Force before the meeting that is the subject of this notice. After reviewing the written comments, the Co-chairs and the Designated Federal Officer may choose to invite the submitter of the comments to orally present their issue during an open portion of this meeting.

The Designated Federal Officer, in consultation with the Task Force co-chairs may, if desired, allot a specific amount of time for members of the public to present their issues for review and discussion by the Task Force.

FOR FURTHER INFORMATION CONTACT: Colonel Roger Gibson, Executive Secretary, Defense Health Board, Skyline One, 5205 Leesburg Pike, Suite 810, Falls Church, VA 22041, (703) 681-3279, ext. 123.

Dated: March 26, 2007
L.M. Bynum,
Alternate OSD Federal Register, Liaison Officer, Department of Defense.

[FR Doc. 07-1561 Filed 3-27-07; 10:37 am]

BILLING CODE 5001-06-M